TENNESSEE VALLEY AUTHORITY

DEPARTMENT OF AGRICULTURE

Forest Service

Notice of Transfer of Administrative Jurisdiction, Custody, and Control of Approximately 170,000 Acres of Land Owned by the Tennessee Valley Authority (TVA) Located at the Land Between The Lakes National Recreation Area in Lyon and Trigg Counties, KY, and Stewart County, TN, Subject to the Rights Expressly Reserved for the Benefit of TVA, Its Agents, Employees, Successors and Assigns as Set Forth in Exhibit A Which Is Attached Hereto and Made a Part Hereof, Said Land Hereinafter Referred to as the “Land Between the Lakes”

AGENCIES: Tennessee Valley Authority (TVA), Forest Service, USDA (USDA-FS).

ACTION: Notice of transfer agreement.

SUMMARY: Pursuant to the Land Between The Lakes Protection Act of 1998, 16 U.S.C. 460 (Act), administrative jurisdiction over the Land Between The Lakes National Recreation Area transferred from TVA to USDA-FS on October 1, 1999. The Land Between the Lakes National Recreation Area consists of approximately 170,000 acres located in Lyon and Trigg Counties, Kentucky, and Stewart County, Tennessee, and rights appurtenant thereto. On September 7, 2001, TVA and the USDA-FS, Southern Region, executed an Agreement of Transfer to document the transfer of administrative jurisdiction over the Land Between The Lakes National Recreation Area that occurred by operation of law on October 1, 1999. A copy of the Agreement of Transfer is attached hereto and made a part hereof as Exhibit A.

The land transferred is described in the Agreement of Transfer and is generally depicted on a drawing which is available for public inspection in the Office of the Chief of the Forest Service, Washington, DC.

FOR FURTHER INFORMATION CONTACT: Michael Lange at 404-347-2990.

SUPPLEMENTARY INFORMATION: A copy of the Agreement of Transfer is attached hereto and made a part hereof as Exhibit A.

Dated: September 25, 2003.
Robert T. Jacobs,
Regional Forester, Southern Region, USDA, Forest Service.

Dated: September 9, 2003.
Darlene H. Bradley,
Manager, Realty Services, Tennessee Valley Authority.

AGREEMENT OF TRANSFER BETWEEN TENNESSEE VALLEY AUTHORITY AND UNITED STATES DEPARTMENT OF AGRICULTURE, FOREST SERVICE

LAND BETWEEN THE LAKES NATIONAL RECREATION AREA

This Agreement of Transfer made and entered into this 7th day of September, 2001, by and between Tennessee Valley Authority, a corporation organized and existing under and by virtue of an Act of Congress known as the Tennessee Valley Authority Act of 1933, as amended (hereinafter called “TVA”), and the United States Department of Agriculture, for the use and benefit of the Forest Service of the Department of Agriculture (hereinafter called “USDA-FS”).

WITNESSETH:

Whereas, on October 1, 1999, pursuant to the Land Between The Lakes Protection Act of 1998, 16 U.S.C. 460lll, administrative jurisdiction over the Land Between The Lakes National Recreation Area transferred from TVA to USDA-FS; and

Whereas, the Land Between The Lakes National Recreation Area contains approximately 170,000 acres located in Lyon and Trigg Counties, Kentucky, and Stewart County, Tennessee, as described in Exhibit A which is attached hereto and made a part hereof (hereinafter called “LBL”); and

Whereas, on November 12, 1999, TVA and the USDA-FS, Southern Region, entered into a Memorandum of Agreement (FS Agreement No. 00MU-1108310-010) to ensure an efficient, orderly, and cost-effective transition of LBL, which provided in part that the parties would execute and publish an Agreement of Transfer documenting the transfer of administrative jurisdiction, custody, and control that occurred on October 1, 1999, by operation of law;

Now, Therefore, in consideration of the premises and of the mutual covenants herein contained, TVA and USDA-FS, covenant and agree as follows:

1. TVA, subject to the conditions, exceptions, and reservations herein contained, has assigned and transferred to USDA-FS the right of possession and all other right, title, or interest which TVA may have in and to LBL.

2. All of the interests and rights assigned and transferred by TVA to the USDA-FS under section 1 hereof are assigned and transferred subject to the following rights, which are hereby expressly reserved for the benefit of TVA, its agents, employees, successors and assigns:

(a) the perpetual right, in connection with and by virtue of the erection and operation of any dam or dams across the Tennessee River or its tributaries, to permanently flood the land described in Exhibit A that is below the 375-foot contour elevation (mean sea level) and temporarily and intermittently flood the land described in Exhibit A that is between the 375-foot contour elevation and the 378-foot contour elevation (mean sea level);

(b) the perpetual right to enter upon the land lying below the 378-foot contour elevation (mean sea level) for the purposes of law enforcement or enforcement of Section 26a of the TVA Act;

(c) permanent exclusive easements for itself, its successors and assigns, to maintain, operate, modify, and upgrade the existing electric power substation and communication facilities, which are an integral part of TVA's power system, in, on, over, and across the two parcels of land described in Exhibit B attached hereto and made a part hereof, including the right to fence all or part of the lands described in Exhibit B, and the perpetual right to use the existing means of access across the land described in Exhibit A for ingress to and egress from the lands described in Exhibit B;

(d) permanent easements and rights-of-way for itself, its successors and assigns, for the Kentucky Dam-Cadiz 69-kV Transmission Line (including the tap line from the Kentucky Dam-Cadiz 69-kV Transmission Line to the Lyon, Kentucky Substation) and the Kentucky Dam-Nashville 161-kV Transmission Line, which are integral parts of TVA's power system, and the permanent right to erect, operate, and maintain additional electric power circuits and lines within the existing rights-of-way for said transmission lines, which rights-of-way are described in Exhibit C attached hereto and made a part hereof, and the permanent right of reasonable access along the roads and/or other off-right-of-way routes across the land described in Exhibit A that historically have been used by TVA for ingress to and egress from said rights-of-way and said transmission lines, said easement rights consisting of the perpetual right to enter at any time and from time to time and to erect, maintain, repair, rebuild, operate, and patrol as many lines of poles or transmission line structures within said existing rights-of-way as TVA deems necessary or useful for electric power transmission purposes, with sufficient wires and cables for electric power circuits and communication circuits, and all necessary appurtenances in, on, over, and across said rights-of-way (and if deemed necessary by TVA to anchor guy wires outside said rights-of-way), together with the perpetual right to clear said rights-of-way and keep the same clear of all brush, trees, buildings, signboards, stored personal property, and fire hazards; to destroy or otherwise dispose of such trees and brush; and to remove, destroy, or otherwise dispose of any trees located outside said rights-of-way which in falling could come within ten (10) feet of any transmission line structure or conductor.

3. Included in TVA's reservation of rights in section 2(c) and (d) is the right to attach telecommunication facilities, including circuits, to transmission line structures and to authorize third parties to attach or underbuild electric distribution circuits or communications equipment to such structures or to the communication facilities; provided, however, that such third party uses may be subject to the imposition of fees by USDA-FS.

4. With respect to the reservation by TVA in section 2(c) and (d) of the rights to operate, maintain, construct, modify, and upgrade certain facilities, it is understood and agreed that any assignee of, or successor-in-interest to, TVA is permitted to operate, maintain, repair, and rebuild facilities in existence at the time of such transfer of interest but not build additional facilities without the prior written consent of USDA-FS. Further, before any assignee or successor-in-interest commences or engages in any construction, modification, or upgrading with respect to such facilities, the assignee or successor must first obtain USDA-FS's written authorization.

5. Any additional proposed power system or other TVA presence on LBL property beyond that reserved in this Agreement will be requested by TVA and considered by USDA-FS in accordance with USDA-FS's normal procedure.

6. TVA in no way warrants the extent of the United States' interests in LBL.

7. Nothing contained in this agreement shall be construed to affect the interests, if any, of the U.S. Army Corps of Engineers or any other third party in any portion of LBL.

In Witness Whereof, the parties hereto have caused this instrument to be executed by their duly authorized representative, the day and year first above written.

Approved by:

U.S. DEPARTMENT OF AGRICULTURE—FOREST SERVICE

Elizabeth Estill,

Regional Forester.

Date: September 28, 2001.

ATTEST:

J. Wayne Owens.

Assistant Secretary.

Date: September 7, 2001.

TENNESSEE VALLEY AUTHORITY

Daniel H. Ferry

Acting Manager, Realty Asset Services.

CERTIFICATION OF CONSIDERATION

I, DANIEL H. FERRY, Acting Manager, Realty Asset Services, as legal agent of the Tennessee Valley Authority, the Grantor herein, do hereby certify, pursuant to KRS Chapter 382, that the above-stated consideration in the amount of $0.00 (Tax Exempt) is the true, correct, and full consideration paid for the property herein conveyed. I further certify my understanding that falsification of the stated consideration of the sale price of the property is a Class D Felony subject to one to five years imprisonment and fines up to $10,000.00.

GRANTOR:

TENNESSEE VALLEY AUTHORITY

DANIEL H. FERRY

Acting Manager, Realty Asset Services

CERTIFICATION OF CONSIDERATION

I, ELIZABETH ESTILL, Regional Forester, as legal agent of the U.S. DEPARTMENT OF AGRICULTURE—FOREST SERVICE, the Grantee herein, do hereby certify, pursuant to KRS Chapter 382, that the above-stated consideration in the amount of $0.00 (Tax Exempt) is the true, correct, and full consideration paid for the purchase of the property herein conveyed. I further certify my understanding that falsification of the stated consideration of the sale price of the property is a Class D Felony subject to one to five years imprisonment and fines up to $10,000.00.

GRANTEE:

U.S. DEPARTMENT OF AGRICULTURE—FOREST SERVICE

ELIZABETH ESTILL,

Regional Forester

STATE OF TENNESSEE

COUNTY OF HAMILTON

On the 7th day of September, 2001, before me appeared DANIEL H. FERRY and J. WAYNE OWENS, to me personally known, who, being by me duly sworn, did say that they are the Acting Manager, Realty Asset Services and Assistant Secretary, respectively, of the TENNESSEE VALLEY AUTHORITY, a corporation; that the seal affixed to the foregoing instrument is the corporate seal of said corporation, and that said instrument was signed, sealed, and delivered and the Certification of Consideration was subscribed and sworn to before me, on behalf of said corporation, by authority of its Board of Directors; and the said DANIEL H. FERRY and J. WAYNE OWENS acknowledged said instrument to be the free act and deed of the TENNESSEE VALLEY AUTHORITY.

WITNESS my hand and official seal of office in Chattanooga, Hamilton County, Tennessee, the day and year aforesaid.

Lynn McCurdy

NOTARY PUBLIC

My Commission Expires: February 17, 2004.

STATE OF GEORGIA)

COUNTY OF FULTON)

On the 28th day of September, 2001, before me appeared ELIZABETH ESTILL, to me personally known, who, being by me duly sworn, did say that she is the Regional Forester of the U.S. DEPARTMENT OF AGRICULTURE—FOREST SERVICE; and that said instrument was signed and delivered and the Certification of Consideration was subscribed and sworn to before me, on behalf of the U.S. DEPARTMENT OF AGRICULTURE—FOREST SERVICE; and the said ELIZABETH ESTILL acknowledged said instrument to be the free act and deed of the U.S. DEPARTMENT OF AGRICULTURE—FOREST SERVICE.

WITNESS my hand and official seal of office in Atlanta, Fulton County, Georgia the day and year aforesaid.

Johnie O. Adams

NOTARY PUBLIC

My Commission Expires: December 6, 2002

EXHIBIT A TO AGREEMENT OF TRANSFER

LAND BETWEEN THE LAKES NATIONAL RECREATION AREA

The Land Between The Lakes National Recreation Area (LBL), being all federally owned land, water, and interests in the land and water lying between Kentucky Lake and Lake Barkley, situated in Lyon and Trigg Counties, Kentucky, and in Stewart County, Tennessee, the boundary of which is described as follows:

The North Boundary of LBL is the 354-foot contour elevation (mean sea level) as it lies along the Southerly shore of Barkley Canal, which connects Kentucky Lake and Barkley Lake.

The West Boundary of LBL is the 354-foot contour elevation (mean sea level) as it lies along the Easterly shore of Kentucky Lake, beginning at Barkley Canal and thence Westerly and Southerly along said contour to a point where it intersects the South boundary of LBL.

The East Boundary of LBL is the 359-foot contour elevation (mean sea level) as it lies along the Westerly shore of Lake Barkley, beginning at Barkley Canal and thence easterly and southerly along said contour to a point intersecting the easterly edge of an old road (Coordinates: N782,190, E1,445,876) said point being along the westerly bank of Rawls Pond and lying approximately 30 feet east of a Sandstone Bluff, thence Southerly along the east edge of said road 0.35 mile to a 6″ diameter Well Casing (Coordinates: N780,439; E1,446,413); thence 5 feet east to a fence; thence Southerly along and with said fence 820 feet to a drainage ditch; thence N 65°37′ E 675 feet to a 26″ diameter Red Oak in an existing fence line (Coordinates: N779,902; E1,447,025); thence Southeasterly along and with said fence approximately 0.6 mile to a point intersecting the South Boundary of LBL, said point marked by a concrete monument (Corner 10PS-1, Coordinates: N777,592; E1,448,808).

The South Boundary of LBL is shown on TVA Maps titled “Land Between The Lakes Reservation”, drawing numbers 421 B511-(1-6), dated between December 1968 and January 1969, and further described as follows: Beginning at a point where the centerline of U.S. Highway 79 intersects the 354-foot contour elevation (mean sea level) lying along the Easterly shore of Kentucky Lake; thence Easterly along said centerline approximately 3.3 miles to the northwest Corner of LBL Tract 8RS:LBL-7; thence (4) four courses along and with LBL Tracts 8RS:

LBL-7 and 8RS:LBL 10;

S.7°38′ W 619 feet to Corner 8RS-6;

S.82°12′ E 1424 feet to Corner 8RS-5;

N.35°16′ E 2316 feet to Corner 8RS-4:

N.18°22′ W 209 feet to a point intersecting said centerline and being Corner 8RS-3;

Thence continuing Easterly along said centerline 2.6 miles to where it intersects the easterly boundary of LBL Tract 9RN:LBL-3, and being Corner 9RN-10; thence N 33° 33′ W 692 feet along said easterly boundary to Corner 9RN-9 at the northeast Corner of said tract; thence leaving the boundary of Tract 9RN:LBL-3 and with the boundary of Tract 9RN:LBL-2 the following nine (9) calls:

S.82°21′ E 500 feet to Corner 9RN-8,

N.33°31′ E 422 feet to Corner 9RN-7,

N.74°02′ E 470 feet to Corner 9RN-6,

N.05°59′ E 1084 feet to Corner 9RN-5,

N.83°27′ W 425 feet to Corner 9RN-4,

N.08°19′ E 1391 feet to Corner 9RN-3,

N.14°46′ W 671 feet to Corner 9RN-2,

N.29°21′ E 978 feet to Corner 9RN-1,

N.41°36′ E 703 feet to Corner 9PS-14;

Thence leaving the boundary of Tract 9RN:LBL-2 and with the boundary of Tract 9PS:LBL-4 the following five (5) calls:

S.27°44′ E 651 feet to Corner 9PS-13,

S.51°47′ W 783 feet to Corner 9PS-12,

N.16°32′ E 1044 feet to Corner 9PS-11,

N.59°44′ E 1380 feet to Corner 9PS-10,

N.08°26′ E 1540 feet to Corner 9PS-9,

Thence leaving the boundary of Tract 9PS:LBL4 and with the boundary of Tracts 9PS:LBL-5 and 9PS:LBL-6 the following nine (9) calls:

N.01°04′ E 114 feet to Corner 9PS-8,

N.35°39′ W 1080 feet to Corner 9PS-7,

N.20°12′ E 671 feet to the centerline of a road, being Corner 9PS-6,

Northeasterly with the centerline of road 1385 feet to Corner 9PS-5,

Thence leaving the road, S.85°28′ E. 799 feet to Corner 9PS-4,

N.04°31′ E 282 feet to Corner 9PS-3 on the south side of road,

N.70°36′ W 87 feet to Corner 9PS-2,

N.12°36′ E 511 feet to Corner 9PS-1,

N.12°01′ E 849 feet to Corner 10PS-26;

Thence leaving the boundary of Tract 9PS:LBL-6 and with the boundary of Tract 10PS:LBL-1 the following eight (8) calls:

S.87°08′ E. 595 feet to Corner 10PS-25,

N.01°46′ E 201 feet to Corner 10PS-24,

N.59°28′ E 347 feet to Corner 10PS-23,

S.84°21′ E 314 feet to Corner 10PS-22,

S.80°25′ E 378 feet to Corner 10PS-21,

S.81°50′ E 1375 feet to Corner 10PS-20,

N.05°16′ E 721 feet to Corner 10PS-19,

N.06°45′ E 1097 feet to Corner 10PS-18 on the south line of Tract 10PS:LBL-4;

Thence leaving the boundary of Tract 10PS:LBL-2 and with the boundaries of Tracts 10PS:LBL-4, 6608, 6607, and 6606 the following eight (8) calls:

S.82°14′ E 2024 feet to Corner 10PS 17,

S.83°39′ E 319 feet to Corner 10PS-16,

N.07°33′ E 519 feet to Corner 10PS-15,

S.85°19′ E 664 feet to Corner 10PS-14,

S.88°05′ E 420 feet to Corner 10PS-13,

N.06°37′ E 497 feet to Corner 10PS-12,

S.85°14′ E 158 feet to Corner 10PS-11 in the centerline of road, Northerly with said centerline of road 498 feet to Corner 10PS-9 on the south line of Tract 10PS:LBL-2;

Thence leaving the centerline of road and Tract 6606 and with Tract 10PS:LBL-2 the following two (2) calls:

N.84°17′ E 224 feet to Corner 10PS-8,

N.84°17′ E 787 feet to Corner 10PS-7,

Thence leaving Tract 10PS:LBL-2 and with Tract 10PS:LBL-3 the following six (6) calls:

S.02°21′ E 1151 feet to Corner 10PS-6,

S.05°25′ E 621 feet to Corner 10PS-5,

S.81°12′ E 373 feet to Corner 10PS-4,

S.01°30′ E 4 feet to Corner 10PS-3,

S.83°55′ E 1878 feet to Corner 10PS-2

S.84°01′ E 2869 feet to a point intersecting the East Boundary of LBL, said point being marked by Corner 10PS-1, (Coordinates: N 777,592; E 1,448,808).

Note: Course directions and coordinates for Corner positions are referenced to Tennessee NAD27 State Plane Coordinates, U.S. Survey Feet.

This description contained in Exhibit A prepared by the USDA-FS, Southern Region, from the maps and records of:

Tennessee Valley Authority

Haney Building 2A 1101 Market Street

Chattanooga, Tennessee 37402-2801

8/31/00

EXHIBIT B TO AGREEMENT OF TRANSFER

Lands Within The Land Between The Lakes National Recreation Area That Are Subject to Tennessee Valley Authority Reserved Interests

LYON, KENTUCKY SUBSTATION TVA TRACT NO. LYOSS-1

A parcel of land located in Lyon County, Commonwealth of Kentucky, on the southeast side of State Highway No. 58, approximately ⅙ mile northeast of the intersection of State Highway No. 58 with State Highway No. 453, as shown on sheet 1 of US-TVA drawing LW-4914, revision 1, entitled “Lyon, Kentucky Substation Property & Contour Map,” the said parcel being more particularly described as follows:

Commencing at a point which is the intersection of the centerlines of State Highway No. 58 and State Highway No. 453; thence leaving the said intersection and with the meanders of the centerline of State Highway No. 58 in a northeasterly direction 907 feet to a point on a curve, the said point being a railroad spike and being the Point Of Beginning.

Thence leaving the point of beginning and with the centerline of the said road as it curves to the left, having a radius of 951.6 feet and arc length of 255.8 feet, forming a chord of N44°42′ E, 255.0 feet to the point of tangent, the said point being a railroad spike; thence leaving the said curve and continuing with the centerline of the said road N37°00′ E, 181.0 feet, crossing the centerline of the existing Kentucky Dam-Cadiz Transmission Line, as shown on sheet 6 of US-TVA drawing LW-3068, to a point on the northeast right-of-way line of the said existing transmission line, the said point being a railroad spike; thence leaving the centerline of the said road and with the said right-of-way line of the existing transmission line S67°14′ E, 300.0 feet to a point, the said point being a 1½-inch iron pin; thence leaving the said right-of-way line of the existing transmission line and with the southeast line of the herein described parcel S37°46′ W, 511.8 feet to a point, the said point being a 1½-inch iron pin; thence leaving the said southeast line and with the southwest line of the herein described parcel N52°14′ W, 318.1 feet to the point of beginning and containing 3.18 acres, more or less.

Note: The described land includes a portion of the present right-of-way of the Kentucky Dam-Cadiz Transmission Line.

MODEL, TENNESSEE MICROWAVE RADIO REPEATER STATION COMMUNICATION FACILITIES TVA TRACT NO. SNSRS-3

A parcel of land located in the Eighth Civil District of Stewart County, State of Tennessee, as shown on sheet I of US-TVA drawing SC-92888, revision 1, entitled “Model, Tennessee Microwave Radio Repeater Station Site,” the said parcel being more particularly described as follows:

Beginning at a point in the centerline of an existing county road; thence leaving the centerline of the said road and with the west line of the herein described parcel N07°30′ E, 418.9 feet, crossing steel fence posts at 20.0 feet and at 388.9 feet, to a point; thence leaving the said west line and with the north line of the herein described parcel S82°30′ E, 420.0 feet to a point; thence leaving the said north line and with the east line of the herein described parcel S07°30′ W, 418.1 feet, crossing steel fence posts at 30.0 feet and at 398.1 feet, to a point on the aforementioned centerline of a road; thence leaving the said east line and with the centerline of the said road approximately along the following bearings and distances: N78°45′ W, 187.4 feet and N85°45′ W, 233.1 feet to the point of beginning and containing 3.98 acres, more or less.

The bearings given in the description for TVA Tract No. SNSRS-3 are based on Magnetic North.

These descriptions contained in Exhibit B prepared from the maps and records of: Tennessee Valley Authority, Haney Building 2A 1101 Market Street, Chattanooga, Tennessee 37402-2801

8/31/00

EXHIBIT C TO AGREEMENT OF TRANSFER

Transmission Line Rights-of-way Within the Land Between The Lakes National Recreation Area That Are Subject to Tennessee Valley Authority Reserved Interests

KENTUCKY DAM-CADIZ 69-kV TRANSMISSION LINE

A strip of land located in Lyon and Trigg Counties, Commonwealth of Kentucky, as shown on sheet 3, revision 17; sheet 4, revision 4; sheet 5, revision 5; sheet 6, revision 7; sheet 7, revision 5; sheet 8, revision 6; and sheet 9, revision 13, of US-TVA drawing LW-3068, which sheets are incorporated herein by reference and made a part hereof, the said strip being 200-feet wide, the centerline of the location and the end boundaries of the strip being more particularly described as follows:

Beginning at point where the centerline of the location crosses the 354-foot contour elevation (mean sea level) as it lies along the southerly shore of Barkley Canal, which connects Kentucky Lake and Barkley Lake, the said point being at survey station 226+89.4 (approximately), the said strip being bounded on the northwest end by the said contour line; thence continuing with the centerline of the location S32°29′ E, 2,608.7 feet to an angle point in the centerline of the location at survey station 252+98.1; thence continuing with the centerline of the location S57°59′ E, 13,229.7 feet to an angle point in the centerline of the location at survey station 385+27.8; thence continuing with the centerline of the location S62°14′ E, 9,635.9 feet to an angle point in the centerline of the location at survey station 481+63.7; thence continuing with the centerline of the location S67°14′ E, 10,117.5 feet to an angle point in the centerline of the location at survey station 582+81.2; thence continuing with the centerline of the location S56°35′ E, 30,009.5 feet, crossing the line between Lyon and Trigg Counties at survey station 866+23, to an angle point in the centerline of the location at survey station 882+90.7; thence continuing with the centerline of the location S65°35′ E, 4,011.9 feet to an angle point in the centerline of the location at survey station 923+02.6; thence continuing with the centerline of the location N67°25′ E, 4,960.4 feet to a point where the centerline crosses the water's edge on the west side of the Cumberland River at survey station 972+63 (approximately), the said strip being bounded on the northeast end by the said water's edge.

The strip of land described above includes the centerline of the transmission line location for a net distance of 74,573.6 feet and contains 342.39 acres, more or less.

Furthermore, the permanent easement rights include the perpetual right to install, maintain, and replace guy wires and necessary appurtenances outside the right-of-way for the transmission line structures located at survey stations 252+98.1, 385+27.8, 481+63.7, 582+81.2, 882+90.7, and 923+02.6.

KENTUCKY DAM-NASHVILLE 161-kV TRANSMISSION LINE

A strip of land located in the Third Magisterial District of Lyon County and the First Magisterial District of Trigg County, Commonwealth of Kentucky, and also located in the Eighth Civil District of Stewart County, State of Tennessee, as shown on sheet 2, revision 21; sheet 3, revision 12; sheet 4, revision 9; sheet 5, revision 11; sheet 6, revision 10; sheet 7, revision 10; sheet 8, revision 11; sheet 9, revision 8; sheet 10, revision 12; sheet 11, revision 7; sheet 12, revision 7; sheet 13, revision 8; sheet 14, revision 8; sheet 15, revision 8; sheet 16, revision 8; and sheet 17, revision 10, of US-TVA drawing LW-2171, which sheets are incorporated herein by reference and made a part hereof, the said strip being 250-feet wide from survey station 201+00.0 (approximately) to 1881+00 (structure 295) and widening to 350 feet from survey station 1881+00 (structure 295) to survey station 1909+40 (approximately), the centerline of the location and the end boundaries of the strip being more particularly described as follows:

Beginning at a point where the centerline of the location crosses the 354-foot contour elevation (mean sea level) as it lies along the southerly shore of Barkley Canal, which connects Kentucky Lake and Barkley Lake, the said point being at survey station 201+00 (approximately), the said strip being bounded on the northwest end by the said contour line; thence continuing with the centerline of the location S36°23′ E, 700 feet to an angle point in the centerline of the location at survey station 208+00; thence continuing with the centerline of the location S37°13′ E, 7,788.6 feet to an angle point in the centerline of the location at survey station 285+88.6; thence continuing with the centerline of the location S48°59′ E, 7,886.7 feet to an angle point in the centerline of the location at survey station 364+75.3; thence continuing with the centerline of the location S50°39′ E, 9,774.5 feet to an angle point in the centerline of the location at survey station 462+49.8; thence continuing with the centerline of the location S42°35′ E, 16,583.9 feet to an angle point in the centerline of the location at survey station 628+33.7; thence continuing with the centerline of the location S24°39′ E, 8,232.8 feet to an angle point in the centerline of the location at a survey station with the equation 710+66.5 LB = 708+64.1 LA; thence continuing with the centerline of the location S33°40′ E, 17,835.9 feet, crossing the line between the Third Magisterial District of Lyon County and the First Magisterial District of Trigg County at survey station 728+70, to an angle point in the centerline of the location at survey station 887+00.0; thence continuing with the centerline of the location S22°23′ E, 18,335.9 feet to an angle point in the centerline of the location at survey station 1070+35.9; thence continuing with the centerline of the location S17°30′ E, 21,188.7 feet to an angle point in the centerline of the location at survey station 1282+24.6; thence continuing with the centerline of the location S22°40′ E, 29,149.1 feet to an angle point in the centerline of the location at survey station 1573+73.7; thence continuing with the centerline of the location SI9°37′ E, 18,234.3 feet, crossing the line between the First Magisterial District of Trigg County, State of Kentucky, and the Eighth Civil District of Stewart County, State of Tennessee, at survey station 1578+05, to an angle point in the centerline of the location at survey station 1756+08.0; thence continuing with the centerline of the location S69°15′ E, 15,332.0 feet to a point where the centerline crosses the water's edge on the west side of the Cumberland River at survey station 1909+40 (approximately), the said strip being bounded on the east end by the said water's edge.

The strip of land described above includes the centerline of the transmission line location for a net distance of 171,042.4 feet and contains 988.17 acres, more or less.

Furthermore, the permanent easement rights include the perpetual right to install, maintain, and replace guy wires and necessary appurtenances outside the right-of-way for the transmission line structures located at survey stations 208+00, 285+88.6, 364+75.3, 462+49.8, 628+33.7, 887+00.0, 1070+35.9, 1282+24.6, 1573+73.7, and 1756+08.0 and for the transmission line structure located at a survey station with the equation 710+66.5 LB = 708+64.1 LA.

These descriptions contained in Exhibit C prepared from the maps and records of: Tennessee Valley Authority, Haney Building 2A, 1101 Market Street, Chattanooga, Tennessee 37402-2801.

8/31/00

003681634

[FR Doc. 03-26575 Filed 10-22-03; 8:45 am]

BILLING CODE 8120-08-P; 3410-11-P